DEPARTMENT OF HEALTH AND HUMAN SERVICES

Administration for Community Living

Agency Information Collection Activities: Submission for OMB Review; Comment Request; Revised Annual and Final Reports for Performance Reporting Data From NIDILRR Grantees

AGENCY: National Institute on Disability, Independent Living and Rehabilitation Research (NIDILRR), Administration for Community Living, HHS.

ACTION: Notice.

SUMMARY: In compliance with the Paperwork Reduction Act of 1995 (PRA), the National Institute on Disability, Independent Living and Rehabilitation Research (NIDILRR), Administration for Community Living (ACL), is announcing that the proposed collection of information listed above has been submitted to the Office of Management and Budget (OMB) for review and clearance.

DATES: Submit written comments on the collection of information by June 23, 2017.

ADDRESSES: Submit written comments on the collection of information by fax to (202) 395-5806 or by email to OIRA_submission@omb.eop.gov, Attn: OMB Desk Officer for ACL.

FOR FURTHER INFORMATION CONTACT: Mary Darnell, (202) 795-7337; Mary.Darnell@acl.hhs.gov.

SUPPLEMENTARY INFORMATION: The National Institute on Disability, Independent Living, and Rehabilitation Research (NIDILRR) Administration for Community Living (ACL) of the Department of Health and Human Services (HHS) requests clearance for a 3-year period of the revised Annual Performance Report (APR) and Final Report forms to be completed by all NIDILRR grantees.

The Web-based system used for Reporting Year 2016 reporting incorporated a number of features to meet NIDILRR's information needs while minimizing burden. To further reduce burden, the proposed form is designed so that, instead of describing their accomplishments, grantees simply select their most important accomplishments from among the outputs they report. Data from grant applications, such as contact and budget information, are preloaded for efficiency. To facilitate grantee and NIDILRR staff review of information submitted, the system includes system-generated tables that summarize information entered in specific sections. The Web-based system also carries forward information from one section of the form to the next; for example, information on outcome-oriented goals is carried forward for convenient linkage with projects/activities and publications.

NIDILRR and HHS will use the information gathered annually from these data collection efforts to provide Congress with the information mandated in GPRA, provide OMB information required for assessment of performance on GPRA indicators, and support its evaluation activities. Data collected from the 10 grant programs will provide a national description of the research activities of approximately 275 NIDILRR grantees per year in fiscal years 2017-2019.

OMB approval is requested for 3 years. The average annual burden associated with these activities over a three-year period is summarized below. While the number of grantees will vary from year to year, all grantees will be required to submit an annual performance report and a final report at the completion of the project. Based on our experience with reporting burden, we estimate that it will take an average of 52 hours to complete the reporting form in a grantee's first year of award. In subsequent years, the estimated response burden is approximately 22 hours. The estimated response burden includes time to review the instructions, gather existing data, and complete and review the form. The number of respondents is based on the average number of grants administered by NIDILRR over time.

This notice collects comments on the information collection requirements relating to the revision of a currently approved collection (ICR Rev) covering ten NIDILRR programs (current approval number 1820-0675).

The forms included in this package are revised versions of those used by grantees in the following 10 programs to submit their Annual and Final Performance Reports for Reporting Year 2016 under OMB collection number 1820-0675:

• Rehabilitation Research Training Centers (RRTCs)

• Rehabilitation Engineering Research Centers (RERCs)

• Field Initiated Research Projects (FIPs)

• Advanced Rehabilitation Research Training Projects (ARRTs)

• Model Systems (including spinal cord injury, traumatic brain injury, and burn centers)

• Disability and Rehabilitation Research Projects (DRRPs)

• Knowledge Translation (KT) Projects

• ADA National Network Centers (ADAs)

• Small Business Innovation Research Projects (SBIR) grantees (Phase 2 only)

• Research Fellowships Program (RFP)

The APR includes common information and information specific to individual programs. The final report is a subset of items from the annual report and provides a summary of progress and outcomes for the full project period.

Comments in Response to the 60-day Federal Register Notice

A 60-day Federal Register Notice was published in the Federal Register on January 24, 2017, Vol. 82, Number 14; pp. 8191-8192. No comments were received in response to the 60-day Federal Register notice.

Burden Estimates

OMB approval is requested for 3 years. Burden estimates are based on historical patterns in data collection reported by the NIDILRR data collection contractor. The average annual burden associated with these activities over a three-year period is summarized below. The proposed NIDILRR Annual Performance Report (APR) and final report forms can be found on the ACL Web site at: https://www.acl.gov/about-acl/policy-and-regulations.

ACL estimates the burden hours for this collection of information as follows:

| Number of respondents | Number of responses per respondent | Average burden hours per response | Total burden hours
New Grantees | 75 | 1 | 52 | 3,900
Continuations and Final Reports | 200 | 1 | 22 | 4,400
Total |  |  |  | 8,300

Dated: May 18, 2017.
Daniel P. Berger,
Acting Administrator and Assistant Secretary for Aging.

[FR Doc. 2017-10634 Filed 5-23-17; 8:45 am]

BILLING CODE 4154-01-P